DEPARTMENT OF DEFENSE

Department of the Army

Notice of Intent To License Government-Owned Inventions; Intent To License Exclusively

AGENCY: Department of the Army, DoD.

ACTION: Notice.

SUMMARY: The inventions listed below are assigned to the United States Government as represented by the Secretary of the Army. The U.S. Army Edgewood Chemical Biological Center intends to license these inventions exclusively in the field of virus detection in Agricultural and Veterinary Diagnostics and Agricultural and Veterinary Disease Detection, to NanoEngineering Corporation, a Florida Corporation with principal offices at 1717 Edgar Street—Unit 103, and West Palm Beach, Florida 33401-6976. The inventions to be licensed are U.S. Patent No. 6,051,189 issued April 18, 2000, and entitled “System and method for detection, identification and monitoring of submicron-sized particles,” U.S. Patent No. 6,485,686 issued November 26, 2002, and entitled “Method and apparatus for counting submicron sized particles,” U.S. Patent No. 6,491,872 issued December 10, 2002, and entitled “Method and system for detecting and recording submicron sized particles,” and U.S. Patent No. 7,250,138 issued July 31, 2007, and entitled “Method and system for detecting and recording submicron sized particles.”

ADDRESSES: Requests for more information and/or objections should be directed to Eric McGill telephone: 410-436-8467, eric.s.mcgill@us.army.mil, U.S. Army Edgewood Chemical Biological Center (ECBC), AMSRD-ECB-PI-BP-TT, Bldg E3330/Rm 241 5183 Blackhawk Road, APG, MD 21010-5424. Any requests of objections should be made within 15 days of the publication of this notice.

FOR FURTHER INFORMATION CONTACT: Dhirajlal Parekh, Office of Research and Technology Applications, U.S. Army Edgewood Chemical Biological Center, AMSRD-ECB-PI-BP-TT, Bldg E3330/Rm 241 5183 Blackhawk Road, APG, MD 21010-5424, telephone: 410-436-8400, e-mail: dhirajlal.parekh@us.army.mil.

SUPPLEMENTARY INFORMATION: None.

Brenda S. Bowen,
Army Federal Register Liaison Officer.

[FR Doc. 2011-7590 Filed 3-30-11; 8:45 am]

BILLING CODE 3710-08-P